ENVIRONMENTAL PROTECTION AGENCY

[ER-FRL-6677-6]

Environmental Impacts Statements; Notice of Availability

Responsible Agency: Office of Federal Activities, General Information (202) 564-7167 or http://www.epa.gov/compliance/nepa/

Weekly receipt of Environmental Impact Statements

Filed July 17, 2006 Through July 21, 2006

Pursuant to 40 CFR 1506.9.

EIS No. 20060300, Draft EIS, AFS, CO, White River National Forest Travel Management Plan, To Accommodate and Balance Transportation Needs, Implementation, Eagle, Garfield, Gunnison, Mesa, Moffat, Pitkin, Rio Blanco, Routt and Summit Counties, CO

Comment Period Ends: October 25, 2006, Contact: Wendy Haskins 970-945-3303.

EIS No. 20060301, Final EIS, NPS, ID, Minidoka Internment National Monument (Former Minidoka Relocation Center) , General Management Plan, Implementation, Jerome County, ID

Wait Period Ends: August 28, 2006, Contact: Anna Tamura 206-220-4157.

EIS No. 20060302, Final EIS, NPS, FL,Fort King National Historic Landmark, Special Resource Study, Implementation, Second Seminole War Site, City of Ocala, Marion County, FL

Wait Period Ends: August 28, 2006, Contact: Tim Bemisderfer 404-562-3124 Ext. 693.

EIS No. 20060303, Final EIS, NOA, GA,Gray's Reef National Marine Sanctuary Draft Management Plan (DMP), Address Current Resource Conditions and Compatible Multiple Uses, Located 17.5 Nautical mile off Sapelo Island, GA

Wait Period Ends: August 28, 2006, Contact: Elizabeth Moore 301-713-3125 Ext 270.

EIS No. 20060304, Final EIS, AFS, ID,Clear Prong Project, Timber Harvest, Temporary Road Construction, Road Maintenance, Road Decommissioning, Thinning of Sub-Merchantable Tree, and Prescribed Fire, Boise National Forest, Cascade Ranger District, Valley County, ID

Wait Period Ends: August 28, 2006, Contact: Keith Dimmett 208-382-7400.

EIS No. 20060305, Draft EIS, GSA, VT,New U.S. Border Station and Commercial Port of Entry Route I-91 Derby Line, Design and Construction, Vermont

Comment Period Ends: September 11, 2006, Contact: Glenn C. Rotondo 617-565-5694.

EIS No. 20060306, Final EIS, FHW, FL,Indian Street Bridge PD&E Study, New Bridge Crossing of the South Fork of the St. Lucie River County Road 714 (Martin Highway)/SW 36th Street/Indian Street from Florida's Turnpike to East of Willoughby Boulevard, Martin County, FL

Wait Period Ends: August 28, 2006, Contact: J. Chris Richter 850-942-9650 Ext 3022.

EIS No. 20060307, Draft Supplement, FHW, WA,WA-99 Alaskan Way Viaduct and Seawall Replacement Project, Additional Information and Evaluation of Construction Plan, Provide Transportation Facility and Seawall with Improved Earthquake Resistence, U.S. Army COE Section 10 and 404 Permits, Seattle, WA

Comment Period Ends: September 22, 2006, Contact: Margaret Kucharski 206-6382-6356.

EIS No. 20060308, Draft EIS, FTA, TX,Southeast Corridor Project, Proposed Fixed-Guideway Transit System, Funding, Metropolitan Transit Authority (METRO) of Harris County, Houston, Harris County, TX

Comment Period Ends: September 11, 2006, Contact: John Sweek 817-978-0550.

EIS No. 20060309, Draft EIS, NOA, 00,Pacific Coast Groundfish Fishery Management Plan, Proposed Acceptable Biological Catch and Optimum Yield Specifications and Management Measures for the 2007-2008 Pacific Coast Groundfish Fishery and Amendment 16-4 Rebuilding Plans for Seven Depleted Pacific Coast Groundfish Species, WA, OR and CA

Comment Period Ends: September 11, 2006, Contact: Robert Lohn 206-625-6150.

EIS No. 20060310, Final EIS, IBR, NM,Long-Term Miscellaneous Purposes Contract Abstract, To Use Carlsbad Project Water for Purposes Other than Irrigation, Eddy County, NM

Wait Period Ends: August 28, 2006, Contact: Marsha Carra 505-462-3602.

EIS No. 20060311, Draft EIS, NPS, UT,Utah Museum of Natural History, Construction and Operation, New Museum Facility at University of Utah, Salt Lake City, UT

Comment Period Ends: September 28, 2006, Contact: Bridger Call 801-355-8816.

EIS No. 20060312, Draft EIS, AFS, CA,SPI Road Project, Construction of an Access Road Across National Forest Land, Special Use Permit, Six Rivers National Forest, Lower Trinity Ranger District, Trinity County, CA

Comment Period Ends: September 11, 2006, Contact: Katherine Worn 707-441-3561.

EIS No. 20060313, Draft EIS, BIA, MT, Kerr Hydroelectric Project, Proposed Drought Management Plan, Implementation, Flathead Lake, MT

Comment Period Ends: September 11, 2006, Contact: Jeffery Loman 202-208-7373.

Dated: July 25, 2006.
Robert W. Hargrove,
Director, NEPA Compliance Division, Office of Federal Activities.

[FR Doc. E6-12136 Filed 7-27-06; 8:45 am]

BILLING CODE 6560-50-P